POSTAL SERVICE

Addition of Competitive International Merchandise Return Service Agreements With Foreign Postal Operators 2 to Competitive Product List

AGENCY: Postal Service™.

ACTION: Notice.

SUMMARY: The Postal Service hereby provides notice that it has filed a request with the Postal Regulatory Commission to add Competitive International Merchandise Return Service Agreements with Foreign Postal Operators 2 to the competitive product list.

DATES: Effective date: March 21, 2016.

FOR FURTHER INFORMATION CONTACT: Kyle Coppin, 202-268-2368.

SUPPLEMENTARY INFORMATION: On March 8, 2016, the United States Postal Service® filed with the Postal Regulatory Commission a Request of the United States Postal Service to add Competitive International Merchandise Return Service Agreements with Foreign Postal Operators 2 to its Competitive Product List, pursuant to 39 U.S.C. 3642. Documents pertinent to this request are available at http://www.prc.gov, Docket No. MC2016-94 and Docket No. CP2016-119.

Stanley F. Mires,
Attorney, Federal Compliance.

[FR Doc. 2016-06232 Filed 3-18-16; 8:45 am]

BILLING CODE 7710-12-P